DEPARTMENT OF ENERGY

National Nuclear Security Administration Advisory Committee; Meeting

AGENCY: National Nuclear Security Administration, Department of Energy.

ACTION: Notice of closed meeting.

SUMMARY: This notice announces a meeting of the National Nuclear Security Administration Advisory Committee (NNSA AC). The Federal Advisory Committee Act, 5 U.S.C. App. 2 10(a)(2) requires that public notice of these meetings be announced in the Federal Register.

DATE: Wednesday, August 15, 2001, 7 a.m. to 5 p.m.

LOCATION: Sandia National Laboratory, 1515 Eubank SE, Albuquerque, NM 87123.

FOR FURTHER INFORMATION CONTACT: Jennifer Leonard (202-586-5555), Staff Director of NNSA AC.

SUPPLEMENTARY INFORMATION: Purpose of the Committee: To provide the Administrator of the National Nuclear Security Administration with advice and recommendations on matters of technology, policy, and operations that lie within the mission and responsibilities of the National Nuclear Security Administration.

Purpose of the Meeting: To discuss national security research, development, and policy programs.

Meeting Agenda: The basic agenda of the meeting is planned as follows: two hour discussion on work of Defense Programs Subcommittee, two hour discussion on work of Nonproliferation Subcommittee, two hour discussion of Committee's future plans. Extra time has been allotted for possible briefings.

Closed Meeting: In the interest of national security, the meeting will be closed to the public, pursuant to the Federal Advisory Committee Act, 5 U.S.C. App 2 section 10(d), and the Federal Advisory Committee Management Regulation, 41 CFR 101-6.1023, “Procedures for Closing an Advisory Committee Meeting”, which incorporate by reference the Government in the Sunshine Act, 5 U.S.C. 552b, which, at sections 552b (c)(1) and (c)(3) permits closure of meetings where restricted data or other classified matters are discussed.

Minutes: Minutes of the meeting will be recorded and classified accordingly.

Issued at Washington, D.C. on July 26, 2001.
Rachel M. Samuel,
Deputy Advisory Committee Management Officer.

[FR Doc. 01-19127 Filed 7-31-01; 8:45 am]

BILLING CODE 6450-01-P